DEPARTMENT OF THE INTERIOR

Bureau of Land Management

43 CFR Part 3830

[Docket No. BLM-2025-0013; A2407-014-004-065516; #O2412-014-004-047181.1]

RIN 1004-AF12

Rescission of Regulations Regarding Mining Claim Payments; Withdrawal

AGENCY: Bureau of Land Management, Interior.

ACTION: Direct final rule; withdrawal.

SUMMARY: The Bureau of Land Management is withdrawing a duplicate direct final rule regarding regulations that authorize declining balance accounts with the BLM concerning mining claims, which published on July 17, 2025.

DATES: As of September 2, 2025, the direct final rule published at 90 FR 33328 on July 17, 2025, is withdrawn.

FOR FURTHER INFORMATION CONTACT: Kirk Rentmeister, National Mining Law Program Lead, telephone: 775-435-5514; email: krentmei@blm.gov. Individuals in the United States who are deaf, deafblind, hard of hearing, or have a speech disability may dial 711 (TTY, TDD, or TeleBraille) to access telecommunications relay services. Individuals outside the United States should use the relay services offered within their country to make international calls to the point-of-contact in the United States.

For a summary of the final rule, please see the abstract description of the document in Docket Number BLM-2025-0013 on www.regulations.gov.

SUPPLEMENTARY INFORMATION: BLM is withdrawing FR Doc. 2025-13397, “Rescission of Regulations Regarding Mining Claim Payments,” published at 90 FR 33328 on July 17, 2025. The document is a duplicate of FR Doc. 2025-13400 which published at 90 FR 33325 on July 17, 2025.

Adam G. Suess,
Acting Assistant Secretary, Land and Minerals Management.

[FR Doc. 2025-16757 Filed 8-29-25; 8:45 am]

BILLING CODE 4331-29-P